DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, no later than March 7, 2016.

Interested persons are invited to submit written comments regarding the subject matter of the investigations to the Director, Office of Trade Adjustment Assistance, at the address shown below, not later than March 7, 2016.

The petitions filed in this case are available for inspection at the Office of the Director, Office of Trade Adjustment Assistance, Employment and Training Administration, U.S. Department of Labor, Room N-5428, 200 Constitution Avenue NW., Washington, DC 20210.

Signed at Washington, DC, this 12th day of February 2016.
Jessica R. Webster,
Certifying Officer, Office of Trade Adjustment Assistance.

Appendix
[127 TAA petitions instituted between 1/11/16 and 2/5/16]
TA-W | Subject firm (petitioners) | Location | Date of institution | Date of petition
91315 | Pacific States Plywood (State/One-Stop) | Springfield, OR | 01/11/16 | 01/07/16
91316 | Martel (a Fluke company) (Company) | Derry, NH | 01/11/16 | 01/07/16
91317 | United Health Group/Optum Healthcare (State/One-Stop) | Hartford, CT | 01/11/16 | 01/08/16
91318 | Felman Production LLC (Union) | Letart, WV | 01/11/16 | 01/06/16
91319 | Zup's Food Market (State/One-Stop) | Aurora, MN | 01/11/16 | 01/08/16
91320 | Jamar Company (State/One-Stop) | Duluth, MN | 01/11/16 | 01/08/16
91321 | Nelson Williams (State/One-Stop) | Mountain Iron, MN | 01/11/16 | 01/08/16
91322 | Gardner Denver Nash (State/One-Stop) | Trumbull, CT | 01/11/16 | 01/08/16
91323 | Leggett & Platt Spring Manufacturing LLC (Union) | Delano, PA | 01/11/16 | 01/08/16
91324 | Baldwin Supply (State/One-Stop) | Hibbing, MN | 01/11/16 | 01/08/16
91325 | Essar Steel (State/One-Stop) | Hibbing, MN | 01/12/16 | 01/11/16
91326 | VanHouse Construction (State/One-Stop) | Silver Bay, MN | 01/12/16 | 01/11/16
91327 | WP & RS Mars Co. (State/One-Stop) | Hibbing, MN | 01/12/16 | 01/11/16
91328 | Nova Lifestyle Inc (State/One-Stop) | Commerce, CA | 01/12/16 | 01/11/16
91329 | Iracore International Inc. (State/One-Stop) | Hibbing, MN | 01/12/16 | 01/11/16
91330 | Primary Sensors, Inc. (State/One-Stop) | Hibbing, MN | 01/12/16 | 01/11/16
91331 | Motion Industries, Inc. (State/One-Stop) | Mountain Iron, MN | 01/12/16 | 01/11/16
91332 | Quantum Resources Recovery (State/One-Stop) | Portland, OR | 01/13/16 | 01/07/16
91333 | Emerson Network Power (Company) | Delaware, OH | 01/13/16 | 01/12/16
91334 | TII Fiber Optics (State/One-Stop) | Frederick, MD | 01/13/16 | 01/12/16
91335 | Climax Portable Machine Tools, Inc. (State/One-Stop) | Newberg, OR | 01/13/16 | 01/12/16
91336 | Spirit Aerosystems, Inc. (State/One-Stop) | Wichita, KS | 01/13/16 | 01/12/16
91337 | Syncreon Supply Chain Solutions (State/One-Stop) | Torrance, CA | 01/13/16 | 01/12/16
91338 | EnerSys (Union) | Cleveland, OH | 01/13/16 | 01/12/16
91339 | MBDA Inc (Workers) | Camarillo, CA | 01/13/16 | 01/12/16
91340 | Newmont Mining Corp (State/One-Stop) | Greenwood Village, CO | 01/13/16 | 01/12/16
91341 | Capco Machinery Systems (Workers) | Roanoke, VA | 01/13/16 | 01/12/16
91342 | Hewlett Packard (State/One-Stop) | East Pontiac, MI | 01/13/16 | 01/13/16
91343 | Holston Medical Group (Company) | Kingsport, TN | 01/14/16 | 01/13/16
91344 | Mark TK Welding, Inc. (Workers) | Kittanning, PA | 01/14/16 | 01/13/16
91345 | Champion Charter (State/One-Stop) | Fridley, MN | 01/15/16 | 01/14/16
91346 | Commercial Vehicle Group, Inc. (Company) | Edgewood, IA | 01/15/16 | 01/14/16
91347 | Eurest Services (State/One-Stop) | Southfield, MI | 01/15/16 | 01/14/16
91348 | Honeywell International Inc. (State/One-Stop) | Melville, NY | 01/15/16 | 01/14/16
91349 | International Business Machines (State/One-Stop) | Las Vegas, NV | 01/15/16 | 01/14/16
91350 | TE Connectivity/Tyco (Workers) | Mount Joy, PA | 01/15/16 | 01/14/16
91351 | Team Solutions (State/One-Stop) | Taylor, MI | 01/15/16 | 01/14/16
91352 | Noranda Aluminium Holding Corporation (State/One-Stop) | New Madrid, MO | 01/15/16 | 01/14/16
91353 | Chemours Chemical Company- Edge Moor Plant (Union) | Edge Moor, DE | 01/19/16 | 01/18/16
91354 | Texas Oncology (Workers) | Richardson, TX | 01/19/16 | 01/15/16
91355 | Ortho Organizers, Inc. (State/One-Stop) | Carlsbad, CA | 01/19/16 | 01/15/16
91356 | Paul Ecke Ranch (State/One-Stop) | Encinitas, CA | 01/19/16 | 01/15/16
91357 | WestRock Services, Inc. (State/One-Stop) | Uncasville, CT | 01/19/16 | 01/15/16
91358 | Ruhrpumpen, Inc. (Company) | Tulsa, OK | 01/19/16 | 01/15/16
91359 | CA Technologies (State/One-Stop) | Islandia, NY | 01/19/16 | 01/15/16
91360 | Amsted Rail—ASF Keystone Division (Union) | Granite City, IL | 01/20/16 | 01/15/16
91361 | Henkel Corporation (Workers) | South Easton, MA | 01/20/16 | 01/04/16
91362 | JDS Uniphase/Lumentum (Workers) | Bloomfield, CT | 01/20/16 | 01/06/16
91363 | Ericsson Inc. (Company) | Piscataway, NJ | 01/20/16 | 01/20/16
91364 | Atlas Medical Software (Workers) | Calabasas, CA | 01/21/16 | 01/20/16
91365 | CNH Industrial (State/One-Stop) | Grand Island, NE | 01/21/16 | 01/05/16
91366 | Convergys Corp, Technical Support Group (State/One-Stop) | Omaha, NE | 01/21/16 | 01/05/16
91367 | Freeport-McMoRan Sierrita, Inc. (Company) | Green Valley, AZ | 01/21/16 | 01/20/16
91368 | Grain Systems Inc. (GSI) (State/One-Stop) | Marshall, MI | 01/21/16 | 01/20/16
91369 | Noramco Engineering Corporation (State/One-Stop) | Hibbing, MN | 01/21/16 | 01/20/16
91370 | Print Media, LLC (YP) (Union) | Tucker, GA | 01/21/16 | 01/20/16
91371 | Rivergate Scrap Metals (State/One-Stop) | Portland, OR | 01/21/16 | 01/20/16
91372 | WorleyParsons (State/One-Stop) | Monrovia, CA | 01/21/16 | 01/20/16
91373 | McGovern Metals (State/One-Stop) | Roseburg, OR | 01/22/16 | 01/20/16
91374 | Bose Corporation (State/One-Stop) | Westborough, MA | 01/22/16 | 01/21/16
91375 | JV Industrial Companies (State/One-Stop) | Pasadena, TX | 01/22/16 | 01/21/16
91376 | Sypris Technologies (State/One-Stop) | Louisville, KY | 01/22/16 | 01/21/16
91377 | BAE Systems (Union) | Fort Wayne, IN | 01/22/16 | 01/21/16
91378 | Alcoa (Union) | Point Comfort, TX | 01/26/16 | 01/25/16
91379 | Climax Portable Machine Tools Inc. (Company) | Newberg, OR | 01/26/16 | 01/25/16
91380 | Gardner Denver Nash LLC (Workers) | Trumbull, CT | 01/26/16 | 01/22/16
91381 | Hydraulic Technologies—A Ligon Company (State/One-Stop) | Galion, OH | 01/26/16 | 01/25/16
91382 | Independent Pattern Shop (Company) | Erie, PA | 01/26/16 | 01/22/16
91383 | MSSL Wiring System Inc (State/One-Stop) | Warren, OH | 01/26/16 | 01/22/16
91384 | Norfolk Southern Railway (Union) | Ashtabula, OH | 01/26/16 | 01/23/16
91385 | Tool-Rite, Inc (Company) | Springboro, PA | 01/26/16 | 01/25/16
91386 | Belden Wire (Company) | Monticello, KY | 01/27/16 | 01/22/16
91387 | Cameron International Corp. (Company) | Millbury, MA | 01/27/16 | 01/19/16
91388 | L-Com (State/One-Stop) | North Andover, MA | 01/27/16 | 01/26/16
91389 | Cambia Health Solutions, Inc (State/One-Stop) | Medford, OR | 01/27/16 | 01/26/16
91390 | Kathrein Inc. Scala Division (State/One-Stop) | Medford, OR | 01/27/16 | 01/26/16
91391 | Halliburton (State/One-Stop) | Homer City, PA | 01/27/16 | 01/26/16
91392 | Graphic Packaging International, Inc. (Union) | Renton, WA | 01/27/16 | 01/25/16
91393 | Sprint, IT Workers (State/One-Stop) | Overland Park, KS | 01/27/16 | 01/26/16
91394 | SweetWorks Confections, LLC (Workers) | Buffalo, NY | 01/27/16 | 01/26/16
91395 | Capital One Services, LLC (State/One-Stop) | Las Vegas, NV | 01/28/16 | 01/26/16
91396 | Southern Graphics System (State/One-Stop) | Battle Creek, MI | 01/28/16 | 01/27/16
91397 | Southwestern Energy Co (6 Locations in AR) (State/One-Stop) | Conway, AR | 01/28/16 | 01/27/16
91398 | K Building Components (State/One-Stop) | Hibbing, MN | 01/28/16 | 01/27/16
91399 | Invista (Workers) | Orange, TX | 01/28/16 | 01/27/16
91400 | Schawk Inc. (State/One-Stop) | Minneapolis, MN | 01/28/16 | 01/27/16
91401 | Schwartz Redi Mix (State/One-Stop) | LaPrarie, MN | 01/28/16 | 01/27/16
91402 | MicroFibres (Union) | Pawtucket, RI | 01/28/16 | 01/28/16
91403 | Kraft Foods (State/One-Stop) | Woburn, MA | 01/28/16 | 01/28/16
91404 | Qual-Pro Corporation (State/One-Stop) | Gardena, CA | 01/28/16 | 01/27/16
91405 | Fairmont Supply Oil & Gas (Company) | Warren, PA | 01/28/16 | 01/28/16
91406 | Osram Sylvania (State/One-Stop) | Wilmington, MA | 01/28/16 | 01/28/16
91407 | Emerald Coal Resources (Union) | Waynesburg, PA | 01/28/16 | 01/28/16
91408 | Manpower (State/One-Stop) | Coldwater, MI | 01/28/16 | 01/28/16
91409 | Southern Graphic System (Workers) | Springfield, MI | 01/29/16 | 01/27/16
91410 | Consol Energy Inc. (State/One-Stop) | Canonsburg, PA | 01/29/16 | 01/28/16
91411 | Parker Hannifin (State/One-Stop) | Oxford, MI | 01/29/16 | 01/28/16
91412 | Caterpillar Precision Seals (Workers) | Toccoa, GA | 01/29/16 | 01/29/16
91413 | First Advantage (State/One-Stop) | St. Petersburg, FL | 02/01/16 | 01/29/16
91414 | Keywell LLC (State/One-Stop) | Falconer, NY | 02/01/16 | 01/29/16
91415 | HCL America—Alcatel-Lucent (ALUS) (State/One-Stop) | Phoenix, AZ | 02/01/16 | 01/29/16
91416 | General Mills (State/One-Stop) | Lodi, CA | 02/02/16 | 02/01/16
91417 | AK Coal Resources (State/One-Stop) | Friedens, PA | 02/02/16 | 02/01/16
91418 | OpSec Security (State/One-Stop) | Robbinsville, NJ | 02/03/16 | 02/02/16
91419 | LCT Energy, LP (Workers) | Johnstown, PA | 02/03/16 | 01/29/16
91420 | Panasonic Appliances Company of America—Sales Department (Company) | Rolling Meadows, IL | 02/03/16 | 02/02/16
91421 | Lenovo USFC MFG (Workers) | Whitsett, NC | 02/03/16 | 01/28/16
91422 | Allegheny Technologies Incorporated (Workers) | Washington, PA | 02/03/16 | 02/02/16
91423 | Heraeus Materials Technology North America LLC (Company) | Chandler, AZ | 02/03/16 | 02/02/16
91424 | National Oilwell Varco—Hydralift/Amclyde Inc. (State/One-Stop) | St Paul, MN | 02/03/16 | 02/02/16
91425 | Universal Lighting Technologies (Workers) | Los Indios, TX | 02/03/16 | 02/02/16
91426 | Van Air Systems/Van Gas Technologies (Union) | Lake City, PA | 02/04/16 | 02/02/16
91427 | The Babcock and Wilcox Company (Company) | West Point, MS | 02/04/16 | 02/02/16
91428 | CSI—Compressco Partners (State/One-Stop) | Oklahoma City, OK | 02/04/16 | 02/03/16
91429 | Industrial Lubricant Company (State/One-Stop) | Grand Rapids, MN | 02/04/16 | 02/03/16
91430 | Gardner Companies/Chilp Mill (State/One-Stop) | Millinocket, ME | 02/04/16 | 02/03/16
91431 | Amgen (State/One-Stop) | Thousand Oaks, CA | 02/04/16 | 02/03/16
91432 | Williams Companies (State/One-Stop) | Oklahoma City, OK | 02/04/16 | 02/03/16
91433 | Strike Pipeline Construction/Ardent Services (State/One-Stop) | Lafayette, LA | 02/04/16 | 02/03/16
91434 | Omak Wood Products LLC (State/One-Stop) | Omak, WA | 02/05/16 | 01/26/16
91435 | Allvac (Union) | Lockport, NY | 02/05/16 | 01/26/16
91436 | Eurest Dining Service—Ocwen Mortgage Site (State/One-Stop) | Waterloo, IA | 02/05/16 | 02/04/16
91437 | Hoquiam Plywood Products (State/One-Stop) | Hoquiam, WA | 02/05/16 | 02/04/16
91438 | Neovia Logistics (Workers) | Normal, IL | 02/05/16 | 02/04/16
91439 | Baker Hughes Grand Prairie AMO (Workers) | Grand Prairie, TX | 02/05/16 | 02/04/16
91440 | DLHBowles Inc. (Company) | Bristol, TN | 02/05/16 | 02/04/16
91441 | Sealed Air Corp (Workers) | Duncan, SC | 02/05/16 | 02/04/16

[FR Doc. 2016-04002 Filed 2-24-16; 8:45 am]

BILLING CODE 4510-FN-P